DEPARTMENT OF TRANSPORTATION

Federal Aviation Administration

14 CFR Part 39

[Docket No. FAA-2019-0402; Product Identifier 2019-NM-008-AD]

RIN 2120-AA64

Airworthiness Directives; Airbus SAS Airplanes

AGENCY: Federal Aviation Administration (FAA), DOT.

ACTION: Notice of proposed rulemaking (NPRM).

SUMMARY: We propose to supersede Airworthiness Directive (AD) 2005-17-14, which applies to all Airbus SAS Model A300 series airplanes; Model A300 B4-600, B4-600R, and F4-600R series airplanes, and Model A300 C4-605R Variant F airplanes (collectively called Model A300-600 series airplanes); and Model A310 series airplanes. AD 2005-17-14 requires repetitive tests to detect desynchronization of the rudder servo actuators, and adjustment or replacement of the spring rods of the rudder servo actuators, if necessary. AD 2005-17-14 also requires repetitive tests/inspections/analyses of the rudder servo actuators, and related investigative/corrective actions if necessary. Since we issued AD 2005-17-14, analyses of the inspection results indicated that the assumptions made to establish the survey campaign were not adequate, and a new investigation determined the existing inspection procedures and compliance times do not adequately address the unsafe condition. This proposed AD would retain some requirements of AD 2005-17-14 and revise the inspection procedures and compliance times, as specified in an European Aviation Safety Agency (EASA) AD, which will be incorporated by reference. We are proposing this AD to address the unsafe condition on these products.

DATES: We must receive comments on this proposed AD by July 25, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the incorporation by reference (IBR) material described in the “Related IBR material under 1 CFR part 51” section in SUPPLEMENTARY INFORMATION, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0402; or in person at Docket Operations between 9 a.m. and 5 p.m., Monday through Friday, except Federal holidays. The AD docket contains this NPRM, the regulatory evaluation, any comments received, and other information. The street address for Docket Operations (telephone 800-647-5527) is listed above. Comments will be available in the AD docket shortly after receipt.

FOR FURTHER INFORMATION CONTACT: Dan Rodina, Aerospace Engineer, International Section, Transport Standards Branch, FAA, 2200 South 216th St., Des Moines, WA 98198; telephone and fax 206-231-3225.

SUPPLEMENTARY INFORMATION:

Comments Invited

We invite you to send any written relevant data, views, or arguments about this proposal. Send your comments to an address listed under the ADDRESSES section. Include “Docket No. FAA-2019-0402; Product Identifier 2019-NM-008-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2005-17-14, Amendment 39-14235 (70 FR 50157, August 26, 2005) (“AD 2005-17-14”), for all Airbus SAS Model A300 series airplanes, Model A300-600 series airplanes, and Model A310 series airplanes. AD 2005-17-14 requires repetitive tests to detect desynchronization of the rudder servo actuators, and adjustment or replacement of the spring rods of the rudder servo actuators, if necessary; and repetitive tests, inspections, and analyses of the rudder servo actuators, and related investigative and corrective actions if necessary. AD 2005-17-14 resulted from new reports of desynchronization of the rudder servo actuators. We issued AD 2005-17-14 to address desynchronization of one of the three rudder servo actuators, which, if combined with an engine failure, could result in the loss of the related hydraulic system and could cause the loss of one of the two synchronized actuators. This condition could create additional fatigue loading and possible cracking of the attachment fittings and could result in the inability of the remaining synchronized actuator to maintain the commanded rudder deflection, leading to reduced controllability of the airplane.

Actions Since AD 2005-17-14 Was Issued

Since we issued AD 2005-17-14, EASA reported that analyses of the inspection results indicate that the assumptions made in 2004 to establish the survey campaign were not adequate. This determination led to investigation and revision of the service information with revised inspection instructions and compliance times, depending on airplane configuration.

The EASA, which is the Technical Agent for the Member States of the European Union, has issued EASA AD 2019-0017, dated January 29, 2019 (“EASA AD 2019-0017”) (also referred to as the Mandatory Continuing Airworthiness Information, or “the MCAI”), to correct an unsafe condition for all Airbus SAS Model A300 series airplanes, Model A300-600 series airplanes, and Model A310 series airplanes. The MCAI states:

Numerous occurrences were reported of rudder servo control de-synchronization, some of which had caused structural damages to the fin or side fittings of the rudder actuator attachments. Analyses revealed that a de-synchronization of the rudder servo control induced by misalignment of the three servo controls, or by thermal expansion, can provoke opposing loads.

This condition, if not detected and corrected, could induce failure of rudder-associated systems, possibly resulting in reduced control of the aeroplane.

Previously, DGAC [Direction Générale de l’Aviation Civile] France issued AD F-2004-063 for A300-600ST aeroplanes, and AD F-2004-092 (EASA approval 2004-6368) [which corresponds to FAA AD 2005-17-14] for A300, A310 and A300-600 aeroplanes, to require repetitive inspections of rudder servo controls, fin box and rudder structures, and, depending on findings, accomplishment of applicable corrective action(s).

Since those ADs were issued, analyses of the inspection results indicate that the assumptions made in 2004 to establish the survey campaign were not adequate. This determination induced new investigation and ATA 55 SBs [service bulletins] revision with new inspection instructions and new compliance times, depending on aeroplane configuration.

For the reason described above, this [EASA] AD retains partially the requirements of DGAC France AD F-2004-063 and AD F-2004-092 (EASA approval 2004-6368), which are superseded, and requires the new inspections (latest SB revision) at new intervals.

The new repetitive intervals for the inspections specified in paragraph (2) of EASA AD 2019-0017 range from 300 flight cycles to 6,000 flight cycles, depending on inspection type.

Explanation of Retained Requirements

Although this proposed AD does not explicitly restate the requirements of AD 2005-17-14, this proposed AD would retain certain requirements of AD 2005-17-14. Those requirements are referenced in EASA AD 2019-0017, which, in turn, is referenced in paragraph (g) of this proposed AD.

Related IBR Material Under 1 CFR Part 51

EASA AD 2019-0017 describes procedures for repetitive inspections of the rudder servo actuators and related investigative/corrective actions. Related investigative actions include repetitive inspections of fin box and rudder servo controls. Corrective actions include repair. This material is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2019-0017 described previously, as incorporated by reference, except for any differences identified as exceptions in the regulatory text of this AD and except as discussed under “Differences Between this Proposed AD and the MCAI.”

Explanation of Required Compliance Information

In the FAA's ongoing efforts to improve the efficiency of the AD process, the FAA worked with Airbus and EASA to develop a process to use certain EASA ADs as the primary source of information for compliance with requirements for corresponding FAA ADs. As a result, EASA AD 2019-0017 will be incorporated by reference in the FAA final rule. This proposed AD would, therefore, require compliance with the provisions specified in EASA AD 2019-0017, except for any differences identified as exceptions in the regulatory text of this proposed AD. Service information specified in EASA AD 2019-0017 that is required for compliance with EASA AD 2019-0017 will be available on the internet http://www.regulations.gov by searching for and locating Docket No. FAA-2019-0402 after the FAA final rule is published.

Differences Between This Proposed AD and the MCAI

Where paragraph (4) of EASA AD 2019-0017 refers to “during any inspection as required by paragraph (2) of this AD,” this proposed AD would require using “during any inspection as required by paragraph (2) or (3) of this AD.” EASA AD 2019-0017 did not specify a corrective action for the inspections required by paragraph (3) of EASA AD 2019-0017.

Costs of Compliance

We estimate that this proposed AD affects 133 airplanes of U.S. registry. We estimate the following costs to comply with this proposed AD:

Estimated Costs for Required Actions *
Action | Labor cost | Parts cost | Cost per product | Cost on U.S. operators
Retained actions from AD 2005-17-14 | 1 work-hour × $85 per hour = $85 | $0 | $85 | $11,305
New proposed actions | 2 work-hours × $85 per hour = $85 | 0 | 170 | 22,610
* Table does not include estimated costs for reporting.

We estimate that it would take about 1 work-hour per product to comply with the proposed reporting requirement in this proposed AD. The average labor rate is $85 per hour. Based on these figures, we estimate the cost of reporting the inspection results on U.S. operators to be $11,305, or $85 per product.

We estimate the following costs to do any necessary on-condition inspections that would be required based on the results of any required actions. We have no way of determining the number of aircraft that might need these on-condition actions:

Estimated Costs of On-Condition Actions
Labor cost | Parts cost | Cost per product
34 work-hours × $85 per hour = $2,890 | $0 | $2,890

We have received no definitive data that would enable us to provide cost estimates for the on-condition repair specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this NPRM is 2120-0056. The paperwork cost associated with this NPRM has been detailed in the Costs of Compliance section of this document and includes time for reviewing instructions, as well as completing and reviewing the collection of information. Therefore, all reporting associated with this NPRM is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-17-14, Amendment 39-14235 (70 FR 50157, August 26, 2005), and adding the following new AD:

Airbus SAS: Docket No. FAA-2019-0402; Product Identifier 2019-NM-008-AD.

(a) Comments Due Date

We must receive comments by July 25, 2019.

(b) Affected ADs

This AD replaces AD 2005-17-14, Amendment 39-14235 (70 FR 50157, August 26, 2005) (“AD 2005-17-14”).

(c) Applicability

This AD applies to the Airbus SAS airplanes, certificated in any category, specified in paragraphs (c)(1) through (c)(3) of this AD, as identified in European Aviation Safety Agency (EASA) AD 2019-0017, dated January 29, 2019 (“EASA AD 2019-0017”).

(1) Model A300 B2-1A, B2-1C, B2K-3C, B2-203, B4-2C, B4-103, and B4-203 airplanes.

(2) Model A300 B4-601, B4-603, B4-620, B4-622, B4-605R, B4-622R, F4-605R and F4-622R airplanes, and Model A300 C4-605R Variant F airplanes.

(3) Model A310-203, -204, -221, -222, -304, -322, -324, and -325 airplanes.

(d) Subject

Air Transport Association (ATA) of America Code 27, Flight controls; 55, Stabilizers.

(e) Reason

This AD was prompted by reports of desynchronization of the rudder servo actuators. We are issuing this AD to address desynchronization of one of the three rudder servo actuators, which, if combined with an engine failure, could result in the loss of the related hydraulic system and could cause the loss of one of the two synchronized actuators. This condition could create additional fatigue loading and possible cracking of the attachment fittings and could result in the inability of the remaining synchronized actuator to maintain the commanded rudder deflection, leading to reduced controllability of the airplane.

(f) Compliance

Comply with this AD within the compliance times specified, unless already done.

(g) Requirements

Except as specified in paragraph (h) of this AD: Comply with all required actions and compliance times specified in, and in accordance with, EASA AD 2019-0017.

(h) Exceptions to EASA AD 2019-0017

(1) For purposes of determining compliance with the requirements of this AD: Where EASA AD 2019-0017 refers to its effective date, this AD requires using the effective date of this AD.

(2) For purposes of determining compliance with the requirements of this AD: Where paragraph (1) of EASA AD 2019-0017 specifies “after the last inspection as previously required by DGAC France AD F-2004-092,” this AD requires using “after the most recent inspection done as specified in Airbus Service Bulletin A300-27-0188, Revision 2, dated October 1, 1997; A300-27-6036, Revision 2, dated October 1, 1997; A300-55-0044, dated October 22, 1996; A300-55-6023, dated October 22, 1996; A310-27-2082, Revision 2, dated October 1, 1997; or A310-55-2026, dated October 22, 1996.”

(3) For purposes of determining compliance with the requirements of this AD: Where paragraph (1) of EASA AD 2019-0017 refers to “the 03 July 2004,” this AD requires using “September 30, 2005” (the effective date of AD 2005-17-14).

(4) For purposes of determining compliance with the requirements of this AD: Where paragraph (4) of EASA AD 2019-0017 refers to “during any inspection as required by paragraph (2) of this AD,” this AD requires using “during any inspection as required by paragraph (2) or (3) of this AD.”

(5) Where any service information referenced in EASA AD 2019-0017 specifies reporting, this AD requires reporting all inspection results at the applicable time specified in paragraph (h)(5)(i) or (h)(5)(ii) of this AD. If operators have reported findings as part of obtaining any corrective actions approved by Airbus SAS's EASA Design Organization Approval (DOA), operators are not required to report those findings as specified in this paragraph.

(i) If the inspection was done on or after the effective date of this AD: Submit the report within 30 days after the inspection.

(ii) If the inspection was done before the effective date of this AD: Submit the report within 30 days after the effective date of this AD.

(6) The “Remarks” section of EASA AD 2019-0017 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0017 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(j) Related Information

(1) For information about EASA AD 2019-0017, contact the EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0017 may be found in the AD docket on the internet at http://www.regulations.gov by searching for and locating Docket No. FAA-2019-0402.

(2) For more information about this AD, contact Dan Rodina, Aerospace Engineer, International Section, Transport Standards Branch, FAA, 2200 South 216th St., Des Moines, WA 98198; telephone and fax 206-231-3225.

Issued in Des Moines, Washington, on May 28, 2019.
Michael Kaszycki,
Acting Director, System Oversight Division, Aircraft Certification Service.

[FR Doc. 2019-11896 Filed 6-7-19; 8:45 am]

BILLING CODE 4910-13-P